DEPARTMENT OF AGRICULTURE

Forest Service

Sabine-Angelina Resource Advisory Committee

AGENCY: Forest Service, USDA.

ACTION: Notice of meeting.

SUMMARY: The Sabine-Angelina Resource Advisory Committee (RAC) will meet in Hemphill, Texas. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: http://cloudapps-usda-gov.force.com/FSSRS/RAC_Page?id=001t0000002JcvCAAS.

DATES: The meeting will be held on Tuesday, June 19, 2018, at 3:00 p.m.

All RAC meetings are subject to cancellation. For status of the meeting prior to attendance, please contact the person listed under For Further Information Contact.

ADDRESSES: The meeting will be held at the Sabine Ranger District, 5050 State Highway 21 East, Hemphill, Texas.

Written comments may be submitted as described under Supplementary Information. All comments, including names and addresses when provided, are placed in the record and are available for public inspection and copying. The public may inspect comments received at the Sabine Ranger District. Please call ahead at 409-625-1940 to facilitate entry into the building.

FOR FURTHER INFORMATION CONTACT: Becky Nix, RAC Coordinator, by phone at 409-625-1940 or via email at bnix@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Approve minutes from November 3, 2016 meeting;

2. Approve resignation from Felix Holmes;

3. Discuss, recommend, and approve new Title II projects;

4. Provide opportunity for review and discussion of RAC Title III funds planned uses by counties;

5. Discuss next 2-3 Stewardship Proposals that Angelina/Sabine will be developing and gain collaborative input from RAC; and

6. Discuss next 3-4 vegetation management areas that Angelina/Sabine hopes to initiate over the next 4-5 years and gain collaborative input from the committee on the projects/activities that we'd hope to do in those areas.

The meeting is open to the public. The agenda will include time for people to make oral statements of three minutes or less. Individuals wishing to make an oral statement should request in writing by Friday, June 8, 2018, to be scheduled on the agenda. Anyone who would like to bring related matters to the attention of the committee may file written statements with the committee staff before or after the meeting. Written comments and requests for time for oral comments must be sent to Becky Nix, RAC Coordinator, 5050 State Highway 21 East, Hemphill, Texas 75948; by email to bnix@fs.fed.us, or via facsimile to 409-625-1953.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: May 23, 2018.
Christopher French,
Associate Deputy Chief, National Forest System.

[FR Doc. 2018-12069 Filed 6-4-18; 8:45 am]

BILLING CODE 3411-15-P